MILLENNIUM CHALLENGE CORPORATION

[MCC 11-09]

Notice of Quarterly Report (April 1, 2011-June 30, 2011)

AGENCY: Millennium Challenge Corporation.

SUMMARY: The Millennium Challenge Corporation (MCC) is reporting for the quarter April 1, 2011 through June 30, 2011, on assistance provided under section 605 of the Millennium Challenge Act of 2003 (22 U.S.C. 7701 et seq.), as amended (the Act), and on transfers or allocations of funds to other Federal agencies under section 619(b) of the Act. The following report will be made available to the public by publication in the Federal Register and on the Internet Web site of the MCC (http://www.mcc.gov) in accordance with section 612(b) of the Act.

Assistance Provided Under Section 605
Projects | Obligated | Objective | Cumulative expenditures | Measures
Country: Madagascar Year: 2011 Quarter 3 Total Obligation: $87,594,779
Entity to which the assistance is provided: MCA Madagascar Total Quarterly Expenditures ¹: $0
Land Tenure Project | $29,560,718 | Increase Land Titling and Security | $29,560,718 | Area secured with land certificates or titles in the Zones. Legal and regulatory reforms adopted. Number of land documents inventoried in the Zones and Antananarivo. Number of land documents restored in the Zones and Antananarivo. Number of land documents digitized in the Zones and Antananarivo. Average time for Land Services Offices to issue a duplicate copy of a title.
|  |  |  | Average cost to a user to obtain a duplicate copy of a title from the Land Services Offices.
|  |  |  | Number of land certificates delivered in the Zones during the period.
|  |  |  | Number of new guichets fonciers operating in the Zones.
|  |  |  | The 256 Plan Local d'Occupation Foncier-Local Plan of Land Occupation (PLOFs) are completed.
Financial Sector Reform Project | $23,704,219 | Increase Competition in the Financial Sector | $23,704,220 | Volume of funds processed annually by the national payment system. Number of accountants and financial experts registered to become CPA. Number of Central Bank branches capable of accepting auction tenders. Outstanding value of savings accounts from CEM in the Zones. Number of Micro-Finance Institutions (MFIs) participating in the Refinancing and Guarantee funds. Maximum check clearing delay.
|  |  |  | Network equipment and integrator.
|  |  |  | Real time gross settlement system (RTGS).
|  |  |  | Telecommunication facilities.
|  |  |  | Retail payment clearing system.
|  |  |  | Number of CEM branches built in the Zones.
|  |  |  | Number of savings accounts from CEM in the Zones.
|  |  |  | Percent of Micro-Finance Institution (MFI) loans recorded in the Central Bank database.
Agricultural Business Investment Project | $13,854,448 | Improve Agricultural Projection Technologies and Market Capacity in Rural Areas | $13,854,449 | Number of farmers receiving technical assistance. Number of marketing contracts of ABC clients. Number of farmers employing technical assistance. Value of refinancing loans and guarantees issued to participating MFIs (as a measure of value of agricultural and rural loans).
|  |  |  | Number of Mnistère de l'Agriculture,de l'Elevage et de la Pêche-Ministry of Agriculture, Livestock, and Fishing (MAEP) agents trained in marketing and investment promotion.
|  |  |  | Number of people receiving information from Agricultural Business Center (ABCs) on business opportunities.
Program Administration² and Control, Monitoring and Evaluation | $18,475,394 |  | $19,662,387 |
Pending subsequent reports ³ |  |  | $0 |
FY2010 Madagascar post-compact disbursement related to final payment of audit expenses.

Projects | Obligated | Objective | Cumulative expenditures | Measures
Country: Honduras Year: 2011 Quarter 3 Total Obligation: $205,000,000
Entity to which the assistance is provided: MCA Honduras Total Quarterly Expenditures ¹: $0
Rural Development Project | $68,273,380 | Increase the productivity and business skills of farmers who operate small and medium-size farms and their employees | $68,264,510 | Number of program farmers harvesting high-value horticulture crops. Number of hectares harvesting high-value horticulture crops. Number of business plans prepared by program farmers with assistance from the implementing entity,
|  |  |  | Total value of net sales.
|  |  |  | Total number of recruited farmers receiving technical assistance.
|  |  |  | Value of loans disbursed to farmers, agribusiness, and other producers and vendors in the horticulture industry, including Program Farmers, cumulative to date, Trust Fund Resources.
|  |  |  | Number of loans disbursed (disaggregated by trust fund, leveraged from trust fund, and institutions receiving technical assistance from ACDI-VOCA).
|  |  |  | Number of hectares under irrigation.
|  |  |  | Number of farmers connected to the community irrigation system.
Transportation Project | $120,591,240 | Reduce transportation costs between targeted production centers and national, regional and global markets | $120,584,457 | Freight shipment cost from Tegucigalpa to Puerto Cortes. Average annual daily traffic volume- CA-5.
|  |  |  | International roughness index (IRI)—CA-5.
|  |  |  | Kilometers of road upgraded—CA-5.
|  |  |  | Percent of contracted road works disbursed—CA-5.
|  |  |  | Average annual daily traffic volume—secondary roads.
|  |  |  | International roughness index (IRI)—secondary roads.
|  |  |  | Kilometers of road upgraded—secondary roads.
|  |  |  | Average annual daily traffic volume—rural roads.
|  |  |  | Average speed -Cost per journey (rural roads).
|  |  |  | Kilometers of road upgraded—rural roads.
|  |  |  | Percent disbursed for contracted studies.
|  |  |  | Value of signed contracts for feasibility, design, supervision and program management contracts.
|  |  |  | Kilometers (km) of roads under design.
|  |  |  | Number of Construction works and supervision contracts signed.
|  |  |  | Kilometers (km) of roads under works contracts.
Program Administration ², and Control, Monitoring and Evaluation | $16,135,380 |  | $15,086,464 |
Pending subsequent reports ³ |  |  | $0 |
The negative quarterly expenditure for Honduras is related to expense accruals. The accruals will be reversed in 2011 and applied to various projects and activities.

Projects | Obligated | Objective | Cumulative expenditures | Measures
Country: Cape Verde Year: 2011 Quarter 3 Total Obligation: $110,078,488
Entity to which the assistance is provided: MCA Cape Verde Total Quarterly Expenditures ¹: $1,038,897
Watershed and Agricultural Support Project | $12,011,603 | Increase agricultural production in three targeted watershed areas on three islands | $11,602,406 | Productivity: Horticulture, Paul watershed. Productivity: Horticulture, Faja watershed.
|  |  |  | Productivity: Horticulture, Mosteiros watershed.
|  |  |  | Number of farmers adopting drip irrigation: All intervention watersheds (Paul, Faja and Mosteiros).
|  |  |  | Hectares under improved or new irrigation (All Watersheds Paul, Faja, and Mosteiros).
|  |  |  | Irrigation Works: Percent contracted works disbursed. All intervention watersheds (Paul, Faja and Mosteiros).
|  |  |  | Number of reservoirs constructed in all intervention watersheds (Paul, Faja and Mosteiros) (incremental).
|  |  |  | Number of farmers trained.
Infrastructure Improvement Project | $82,630,208 | Increase integration of the internal market and reduce transportation costs | $82,542,708 | Travel time ratio: percentage of beneficiary population further than 30 minutes from nearest market.
|  |  |  | Kilometers of roads/bridges completed.
|  |  |  | Percent of contracted road works disbursed (cumulative).
|  |  |  | Port of Praia: percent of contracted port works disbursed (cumulative).
Private Sector Development Project | $1,920,018 | Spur private sector development on all islands through increased investment in the priority sectors and through financial sector reform | $1,824,566 | Micro-Finance Institutions portfolio at risk, adjusted (level).
Program Administration², and Control, Monitoring and Evaluation | $13,516,659 |  | $12,542,777 |
Pending subsequent reports³ |  |  | $0 |

Projects | Obligated | Objective | Cumulative expenditures | Measures
Country: Nicaragua Year: 2011 Quarter 3 Total Obligation: $113,500,000
Entity to which the assistance is provided: MCA Nicaragua Total Quarterly Expenditures ¹: $2,462,277
Property Regularization Project | $7,180,454 | Increase Investment by strengthening property rights | $7,434,599 | Automated database of registry and cadastre installed in the 10 municipalities of Leon.
|  |  |  | Value of land, urban.
|  |  |  | Value of land, rural.
|  |  |  | Time to conduct a land transaction.
|  |  |  | Number of additional parcels with a registered title, urban.
|  |  |  | Number of additional parcels with a registered title, rural.
|  |  |  | Area covered by cadastral mapping.
|  |  |  | Cost to conduct a land transaction.
Transportation Project | $58,000,000 | Reduce transportation costs between Leon and Chinandega and national, regional and global markets | $57,540,040 | Annual Average daily traffic volume: N1 Section R1.
|  |  |  | Annual Average daily traffic volume: N1 Section R2.
|  |  |  | Annual Average daily traffic volume: Port Sandino (S13).
|  |  |  | Annual Average daily traffic volume: Villanueva—Guasaule Annual.
|  |  |  | Average daily traffic volume: Somotillo-Cinco Pinos (S1).
|  |  |  | Annual average daily traffic volume: León-Poneloya-Las Peñitas.
|  |  |  | International Roughness Index: N-I Section R1.
|  |  |  | International Roughness Index: N-I Section R2.
|  |  |  | International Roughness Index: Port Sandino (S13.
|  |  |  | International roughness index: Villanueva—Guasaule.
|  |  |  | International roughness index: Somotillo-Cinco Pinos.
|  |  |  | International roughness index: León-Poneloya-Las Peñitas.
|  |  |  | Kilometers of NI upgraded: R1 and R2 and S13.
|  |  |  | Kilometers of NI upgraded: Villanueva—Guasaule.
|  |  |  | Kilometers of S1 road upgraded.
|  |  |  | Kilometers of S9 road upgraded.
Rural Development Project | $32,875,845 | Increase the value added of farms and enterprises in the region | $31,345,307 | Number of beneficiaries with business plans.
|  |  |  | Numbers of manzanas (1 manzana = 1.7 hectares), by sector, harvesting higher-value crops.
|  |  |  | Number of beneficiaries with business plans prepared with assistance of Rural Business Development Project.
|  |  |  | Number of beneficiaries implementing forestry business plans under Improvement of Water Supplies Activity.
|  |  |  | Number of Manzanas reforested.
|  |  |  | Number of Manzanas with trees planted.
Program Administration², Due Diligence, Monitoring and Evaluation | $15,443,701 |  | $14,993,362 |
Pending subsequent reports³ |  |  | $1,759,671 |

Projects | Obligated | Objective | Cumulative expenditures | Measures
Country: Georgia Year: 2011 Quarter 3 Total Obligation: $395,300,000
Entity to which the assistance is provided: MCA Georgia Total Quarterly Expenditures ¹: $10,992,708
Regional Infrastructure Rehabilitation Project | $314,240,000 | Key Regional Infrastructure Rehabilitated | $308,369,918 | Household savings from Infrastructure Rehabilitation Activities.
|  |  |  | Savings in vehicle operating costs (VOC).
|  |  |  | International roughness index (IRI).
|  |  |  | Annual average daily traffic (AADT).
|  |  |  | Travel Time.
|  |  |  | Kilometers of road completed.
|  |  |  | Signed contracts for feasibility and/or design studies.
|  |  |  | Percent of contracted studies disbursed.
|  |  |  | Kilometers of roads under design.
|  |  |  | Signed contracts for road works.
|  |  |  | Kilometers of roads under works contracts.
|  |  |  | Sites rehabilitated (phases I, II, III)—pipeline.
|  |  |  | Construction works completed (phase II)—pipeline.
|  |  |  | Savings in household expenditures for all RID subprojects.
|  |  |  | Population Served by all RID subprojects.
|  |  |  | RID Subprojects completed.
|  |  |  | Value of Grant Agreements signed.
|  |  |  | Value of project works and goods contracts Signed.
|  |  |  | Subprojects with works initiated.
Regional Enterprise Development Project | $52,040,800 | Enterprises in Regions Developed | $51,736,506 | Jobs Created by Agribusiness Development Activity (ADA) and by Georgia Regional Development Fund (GRDF).
|  |  |  | Household net income—ADA and GRDF.
|  |  |  | Jobs created—ADA.
|  |  |  | Firm income—ADA.
|  |  |  | Household net income—ADA.
|  |  |  | Beneficiaries (direct and indirect)—ADA.
|  |  |  | Grant agreements signed—ADA.
|  |  |  | Increase in gross revenues of portfolio companies.
|  |  |  | Increase in portfolio company employees.
|  |  |  | Increase in wages paid to the portfolio company employees.
|  |  |  | Portfolio companies.
|  |  |  | Funds disbursed to the portfolio companies.
Program Administration ², Due Diligence, Monitoring and Evaluation | $20,577,650 |  | $24,507,904 |
Pending subsequent reports ³ |  |  | $1,748,306 |
In November 2008, MCC and the Georgian government signed a Compact amendment making up to $100 million of additional funds available to the Millennium Challenge Georgia Fund. These funds will be used to complete works in the Roads, Regional Infrastructure Development, and Energy Rehabilitation Projects contemplated by the original Compact. The amendment was ratified by the Georgian parliament and entered into force on January 30, 2009.

Projects | Obligated | Objective | Cumulative expenditures | Measures
Country: Vanuatu Year: 2011 Quarter 3 Total Obligation: $65,690,000
Entity to which the assistance is provided: MCA Vanuatu Total Quarterly Expenditures ¹: $380,075
Transportation Infrastructure Project | $60,127,374 | Facilitate transportation to increase tourism and business development | $60,072,138 | Traffic volume (average annual daily traffic)—Efate Ring Road.
|  |  |  | Traffic Volume (average annual daily traffic)—Santo East Coast Road.
|  |  |  | Kilometers of road upgraded—Efate Ring Road.
|  |  |  | Kilometers of roads upgraded—Santo East Coast Road.
|  |  |  | Percent of MCC contribution disbursed to “adjusted” signed contracts of roads works; including approved variations.
Program Administration ², Due Diligence, Monitoring and Evaluation | $5,562,626 |  | $5,152,780 |
Pending subsequent reports ³ |  |  | $19,948 |

Projects | Obligated | Objective | Cumulative expenditures | Measures
Country: Armenia Year: 2011 Quarter 3 Total Obligation: $235,650,000
Entity to which the assistance is provided: MCA Armenia Total Quarterly Expenditures ¹: $30,753,069
Irrigated Agriculture Project (Agriculture and Water) | $153,221,708 | Increase agricultural productivity Improve and Quality of Irrigation | $139,001,654 | Training/technical assistance provided for On-Farm Water Management.
|  |  |  | Training/technical assistance provided for Post-Harvest Processing.
|  |  |  | Loans Provided.
|  |  |  | Value of irrigation feasibility and/or detailed design contracts signed.
|  |  |  | Value of irrigation feasibility and/or detailed design contracts disbursed.
|  |  |  | Number of farmers using better on-farm water management.
|  |  |  | Number of enterprises using improved techniques.
|  |  |  | Value of irrigation feasibility and/or detailed design contracts signed.
|  |  |  | Additional Land irrigated under project.
|  |  |  | Value of irrigation feasibility and/or detailed design contracts signed.
|  |  |  | Value of irrigation feasibility and/or detailed design contracts disbursed.
Rural Road Rehabilitation Project | $67,100,000 | Better access to economic and social infrastructure | $7,668,644 | Average annual daily traffic on Pilot Roads.
|  |  |  | International roughness index for Pilot Roads.
|  |  |  | Road Sections Rehabilitated—Pilot Roads.
|  |  |  | Pilot Roads: Percent of Contracted Roads Works Disbursed of Works Completed.
Program Administration ², Due Diligence, Monitoring and Evaluation | $15,328,292 |  | $12,728,874 |
Pending subsequent reports ³ |  |  | $272,768 |

Projects | Obligated | Objective | Cumulative expenditures | Measures
Country: Benin Year: 2011 Quarter 2 Total Obligation: $307,298,040
Entity to which the assistance is provided: MCA Benin Total Quarterly Expenditures ¹: $44,172,939
Access to Financial Services Project | $16,950,000 | Expand Access to Financial Services | $10,833,594 | Value of credits granted by Micro-Finance Institutions (at the national level).
|  |  |  | Value of savings collected by MFI institutions (at the national level).
|  |  |  | Average portfolio at risk >90 days of microfinance institutions at the national level.
|  |  |  | Operational self-sufficiency of MFIs at the national level.
|  |  |  | Number of institutions receiving grants through the Facility.
|  |  |  | Number of MFIs inspected by Cellule Supervision Microfinance.
Access to Justice Project | $21,536,651 | Improved Ability of Justice System to Enforce Contracts and Reconcile Claims | $13,822,337 | Average time to enforce a contract. Percent of firms reporting confidence in the judicial system.
|  |  |  | Passage of new legal codes.
|  |  |  | Average time required for Tribunaux de premiere instance-arbitration centers and courts of first instance (TPI) to reach a final decision on a case.
|  |  |  | Average time required for Court of Appeals to reach a final decision on a case.
|  |  |  | Percent of cases resolved in TPI per year.
|  |  |  | Percent of cases resolved in Court of Appeals per year.
|  |  |  | Number of Courthouses completed.
|  |  |  | Average time required to register a business (société).
|  |  |  | Average time required to register a business (sole proprietorship).
Access to Land Project | $33,715,553 | Strengthen property rights and increase investment in rural and urban land | $23,621,948 | Percentage of households investing in targeted urban land parcels.
|  |  |  | Percentage of households investing in targeted rural land parcels.
|  |  |  | Average cost required to convert occupancy permit to land title through systematic process.
|  |  |  | Share of respondents perceiving land security in the Conversions from Occupancy permit to land title (PH-TF) or Rural Land Plan (PFR) areas.
|  |  |  | Number of preparatory studies completed.
|  |  |  | Number of Legal and Regulatory Reforms Adopted.
|  |  |  | Amount of Equipment Purchased.
|  |  |  | Number of new land titles obtained by transformation of occupancy permit.
|  |  |  | Number of land certificates issued within MCA—Benin implementation.
|  |  |  | Number of PFRs established with MCA Benin implementation.
|  |  |  | Number of permanent stations installed.
|  |  |  | Number of stakeholders Trained.
|  |  |  | Number of communes with new cadastres.
|  |  |  | Number of operational land market information systems.
Access to Markets Project | $188,494,824 | Improve Access to Markets through Improvements to the Port of Cotonou | $162,219,275 | Volume of merchandise traffic through the Port Autonome de Cotonou.
|  |  |  | Bulk ship carriers waiting times at the port.
|  |  |  | Port design-build contract awarded.
|  |  |  | Annual number of thefts cases.
|  |  |  | Average time to clear customs
|  |  |  | Port meets—international port security standards (ISPS).
Program Administration², Due Diligence, Monitoring and Evaluation | $46,601,012 |  | $34,819,037 |
Pending subsequent reports³ |  |  | $283,061 |

Projects | Obligated | Objective | Cumulative expenditures | Measures
Country: Ghana Year: 2011 Quarter 3 Total Obligation: $547,009,000
Entity to which the assistance is provided: MCA Ghana Total Quarterly Expenditures ¹: $67,966,816
Agriculture Project | $211,970,412 | Enhance Profitability of cultivation, services to agriculture and product handling in support of the expansion of commercial agriculture among groups of smallholder farms | $157,279,409 | Number of farmers trained in commercial agriculture. Number of agribusinesses assisted. Number of preparatory land studies completed. Legal and regulatory land reforms adopted.
|  |  |  | Number of landholders reached by public outreach efforts.
|  |  |  | Number of hectares under production.
|  |  |  | Number of personnel trained.
|  |  |  | Number of buildings rehabilitated/constructed.
|  |  |  | Value of equipment purchased.
|  |  |  | Feeder roads international roughness index.
|  |  |  | Feeder roads annualized average daily traffic.
|  |  |  | Value of signed contracts for feasibility and/or design studies of feeder roads.
|  |  |  | Percent of contracted design/feasibility studies completed for feeder roads.
|  |  |  | Value of signed works contracts for feeder roads.
|  |  |  | Percent of contracted feeder road works disbursed.
|  |  |  | Value of loans disbursed to clients from agriculture loan fund.
|  |  |  | Value of signed contracts for feasibility and/or design studies (irrigation).
|  |  |  | Percent of contracted (design/feasibility) studies complete (irrigation).
|  |  |  | Value of signed contracts for irrigation works (irrigation).
|  |  |  | Rural hectares mapped.
|  |  |  | Percent of contracted irrigation works disbursed.
|  |  |  | Percent of people aware of their land rights in Pilot Land Registration Areas.
|  |  |  | Total number of parcels surveyed in the Pilot Land Registration Areas (PLRAs).
|  |  |  | Volume of products passing through post-harvest treatment.
Rural Development Project | $74,662,857 | Strengthen the rural institutions that provide services complementary to, and supportive of, agricultural and agriculture business development | $63,929,201 | Number of students enrolled in schools affected by Education Facilities Sub-Activity. Number of schools rehabilitated. Number of school blocks constructed.
|  |  |  | Distance to collect water.
|  |  |  | Time to collect water.
|  |  |  | Incidence of guinea worm.
|  |  |  | Number of people affected by Water and Sanitation Facilities Sub-Activity.
|  |  |  | Number of stand-alone boreholes/wells/nonconventional water systems constructed/rehabilitated.
|  |  |  | Number of small-town water systems designed and due diligence completed for construction.
|  |  |  | Number of pipe extension projects designed and due diligence completed for construction.
|  |  |  | Number of agricultural processing plants in target districts with electricity due to Rural Electrification Sub-Activity.
Transportation Project | $215,061,187 | Reduce the transportation costs affecting agriculture commerce at sub-regional levels | $138,979,621 | Trunk roads international roughness index. N1 International roughness index. N1 Annualized average daily traffic.
|  |  |  | N1 Kilometers of road upgraded.
|  |  |  | Value of signed contracts for feasibility and/or design studies of the N1.
|  |  |  | Percent of contracted design/feasibility studies completed of the N1.
|  |  |  | Value of signed contracts for road works N1, Lot 1.
|  |  |  | Value of signed contracts for road works N1, Lot 2.
|  |  |  | Trunk roads annualized average daily traffic.
|  |  |  | Trunk roads kilometers of roads completed.
|  |  |  | Percent of contracted design/feasibility studies completed of trunk roads.
|  |  |  | Percent of contracted trunk road works disbursed.
|  |  |  | Ferry Activity: annualized average daily traffic vehicles.
|  |  |  | Ferry Activity: annual average daily traffic (passengers).
|  |  |  | Landing stages rehabilitated.
|  |  |  | Ferry terminal upgraded.
|  |  |  | Rehabilitation of Akosombo Floating Dock completed.
|  |  |  | Rehabilitation of landing stages completed.
|  |  |  | Percent of contracted road works disbursed: N1, Lot 2.
|  |  |  | Percent of contracted road works disbursed: N1, Lot 2.
|  |  |  | Percent of contracted work disbursed: ferry and floating dock.
|  |  |  | Percent of contracted work disbursed: landings and terminals.
|  |  |  | Value of signed contracts for feasibility and/or design studies of Trunk Roads.
|  |  |  | Value of signed contracts for trunk roads.
Program Administration,² Due Diligence, Monitoring and Evaluation | $45,314,544 |  | $ 37,055,231 |
Pending subsequent reports.³ |  |  | $2,067,683 |

Projects | Obligated | Objective | Cumulative expenditures | Measures
Country: El Salvador Year: 2011 Quarter 3 Total Obligation: $460,940,000
Entity to which the assistance is provided: MCA El Salvador Total Quarterly Expenditures ¹: $29,540,735
Human Development Project | $99,596,078 | Increase human and physical capital of residents of the Northern Zone to take advantage of employment and business opportunities. | $52,179,183 | Employment rate of graduates of middle technical schools. Graduation rates of middle technical schools. Middle technical schools remodeled and equipped.
|  |  |  | New Scholarships granted to students of middle technical education.
|  |  |  | Students of non-formal training.
|  |  |  | Cost of water.
|  |  |  | Time collecting water.
|  |  |  | Number of households with access to improved water supply.
|  |  |  | Value of contracted water and sanitation works disbursed.
|  |  |  | Cost of electricity.
|  |  |  | Households benefiting with a connection to the electricity network.
|  |  |  | Household benefiting with the installation of isolated solar systems.
|  |  |  | Kilometers of new electrical lines with construction contracts signed.
|  |  |  | Population benefiting from strategic infrastructure.
Productive Development Project | $71,824,000 | Increase production and employment in the Northern Zone | $26,483,228 | Number of hectares under production with MCC support.
|  |  |  | Number of beneficiaries of technical assistance and training—Agriculture.
|  |  |  | Number of beneficiaries of technical assistance and training—Agribusiness.
|  |  |  | Value of agricultural loans to farmers/agribusiness.
Connectivity Project | $255,300,999 | Reduce travel cost and time within the Northern Zone, with the rest of the country, and within the region | $138,283,173 | Average annual daily traffic. International roughness index. Kilometers of roads rehabilitated.
|  |  |  | Kilometers of roads with construction initiated.
Productive Development Project | $71,678,455 |  | $46,031,645 |
Program Administration ² and Control, Monitoring and Evaluation | $34,365,368 |  | $19,856,366 |
Pending Subsequent Report ³ |  |  | $0 |

Projects | Obligated | Objective | Cumulative expenditures | Measures
Country: Mali Year: 2011 Quarter 3 Total Obligation: $460,811,164
Entity to which the assistance is provided: MCA Mali Total Quarterly Expenditures ¹: $53,263,586
Bamako Senou Airport Improvement Project | $181,253,028 |  | $53,347,640 | Number of full time jobs at the ADM and firms supporting the airport.
|  |  |  | Average number of weekly flights (arrivals).
|  |  |  | Passenger traffic (annual average).
|  |  |  | Percent works complete.
|  |  |  | Time required for passenger processing at departures and arrivals.
|  |  |  | Percent works complete.
|  |  |  | Security and safety deficiencies corrected at the airport.
Alatona Irrigation Project | $234,884,675 | Increase the agricultural production and productivity in the Alatona zone of the ON | $187,670,227 | Main season rice yields. International roughness index (IRI) on the Niono-Goma Coura Route.
|  |  |  | Traffic on the Niono-Diabaly road segment.
|  |  |  | Traffic on the Diabaly-Goma Coura road segment.
|  |  |  | Percentage works completed on Niono-Goma Coura road.
|  |  |  | Hectares under improved irrigation.
|  |  |  | Irrigation system efficiency on Alatona Canal.
|  |  |  | Percentage of contracted irrigation construction works disbursed.
|  |  |  | Number market gardens allocated in Alatona zones to PAPs or New Settler women.
|  |  |  | Net primary school enrollment rate (in Alatona zone).
|  |  |  | Percent of Alatona population with improved access to drinking water.
|  |  |  | Number of schools available in Alatona.
|  |  |  | Number of health centers available in the Alatona.
|  |  |  | Number of affected people who have been compensate.
|  |  |  | Number of farmers that have applied improved techniques.
|  |  |  | Hectares under production (rainy season).
|  |  |  | Hectares under production (dry season).
|  |  |  | Number of farmers trained.
|  |  |  | Value of agricultural and rural loans.
|  |  |  | Number of active MFI clients.
|  |  |  | Loan recovery rate among Alatona farmers.
Industrial Park Project | $2,637,472 | Terminated | $2,637,472 |
Program Administration ² and Control, Monitoring and Evaluation | $42,035,989 |  | $27,219,796 |
Pending Subsequent Report ³ |  |  | $1 |

Projects | Obligated | Objective | Cumulative expenditures | Measures
Country: Mongolia Year: 2011 Quarter 3 Total Obligation: $284,911,363
Entity to which the assistance is provided: MCA Mongolia Total Quarterly Expenditures ¹: $9,787,971
Property Rights Project | $27,201,061 | Increase security and capitalization of land assets held by lower-income Mongolians, and increased peri-urban herder productivity and incomes | $7,851,214 | Number of legal and regulatory framework or preparatory studies completed (Peri-Urban and Land Plots). Number of Legal and regulatory reforms adopted.
|  |  |  | Number of stakeholders (Peri-Urban and Land Plots).
|  |  |  | Stakeholders Trained (Peri-Urban and Land Plots).
|  |  |  | Number of Buildings Built/Rehabilitated.
|  |  |  | Equipment purchased.
|  |  |  | Rural hectares Mapped.
|  |  |  | Urban Parcels Mapped.
|  |  |  | Leaseholds Awarded.
Vocational Education Project | $47,355,638 | Increase employment and income among unemployed and underemployed Mongolians | $6,887,191 | Rate of employment. Vocational school graduates in MCC-supported educational facilities.
|  |  |  | Percent of active teachers receiving certification training.
|  |  |  | Technical and vocational education and training (TVET) legislation passed.
Health Project | $38,974,817 | Increase the adoption of behaviors that reduce non-communicable diseases (NCDIs) among target populations and improved medical treatment and control of NCDIs | $15,738,216 | Treatment of diabetes. Treatment of hypertension. Early detection of cervical cancer. Recommendations on road safety interventions available.
Roads Project | $86,740,123 | More efficient transport for trade and access to services | $9,368,186 | Kilometers of roads completed. Annual average daily traffic. Travel time.
|  |  |  | International Roughness Index.
|  |  |  | Kilometers of roads under design.
|  |  |  | Percent of contracted roads works disbursed.
Energy and Environmental Project | $46,966,205 | Increased wealth and productivity through greater fuel use efficiency and decreasing health costs from air | $3,319,432 | Household savings from decreased fuel costs. Product testing and subsidy setting process adopted.
|  |  |  | Health costs from air pollution in Ulaanbaatar.
|  |  |  | Reduced particulate matter concentration.
|  |  |  | Capacity of wind power generation.
Rail Project | $369,560 | Terminated | $369,560 | Terminated.
Program Administration ² and Control, Monitoring and Evaluation | $37,303,959 |  | $15,795,799 |
Pending subsequent reports ³ |  |  | $129,924 |
In late 2009, the MCC's Board of Directors approved the allocation of a portion of the funds originally designated for the rail project to the expansion of the health, vocational education and property right projects from the rail project, and the remaining portion to the addition of a road project.

Projects | Obligated | Objective | Cumulative expenditures | Measures
Country: Mozambique Year: 2011 Quarter 3 Total Obligation: $506,924,053
Entity to which the assistance is provided: MCA Mozambique Total Quarterly Expenditures ¹: $12,222,176
Water Supply and Sanitation Project | $207,385,393 | Increase access to reliable and quality water and sanitation facilities | $18,788,444 | Percent of urban population with improved water sources. Time to get to non-private water source.
|  |  |  | Percent of urban population with improved sanitation facilities.
|  |  |  | Percent of rural population with access to improved water sources.
|  |  |  | Number of private household water connections in urban areas.
|  |  |  | Number of rural water points constructed.
|  |  |  | Number of standpipes in urban areas.
|  |  |  | Five cities: Final detailed design submitted.
|  |  |  | Three cities: Final detailed design submitted.
Road Rehabilitation Project | $176,307,480 | Increase access to productive resources and markets | $5,762,733 | Kilometers of road rehabilitated. Namialo—Rio Lúrio Road—Metoro: Percent of feasibility, design, and supervision contract disbursed.
|  |  |  | Rio Ligonha-Nampula: Percent of feasibility, design, and supervision contract disbursed.
|  |  |  | Chimuara-Nicoadala: Percent of feasibility, design, and supervision contract disbursed.
|  |  |  | Namialo—Rio Lúrio: Percent of road construction contract disbursed.
|  |  |  | Rio Lúrio—Metoro: Percent of road construction contract disbursed.
|  |  |  | Rio Ligonha—Nampula: Percent of road construction contract disbursed.
|  |  |  | Chimuara-Nicoadala: Percent of road construction contract disbursed.
|  |  |  | Namialo-Rio Lúrio Road: Average annual daily traffic volume.
|  |  |  | Rio Lúrio-Metoro Road: Average annual daily traffic volume.
|  |  |  | Rio-Ligonha-Nampula Road: Average annual daily traffic volume.
|  |  |  | Chimuara-Nicoadala Road: Average annual daily traffic volume.
|  |  |  | Namialo-Rio Lúrio Road: Change in International Roughness Index (IRI).
|  |  |  | Rio Lúrio-Metoro Road: Change in International Roughness Index (IRI).
|  |  |  | Rio-Ligonha-Nampula Road: Change in International Roughness Index (IRI).
|  |  |  | Chimuara-Nicoadala Road: Change in International Roughness Index (IRI).
Land Tenure Project | $39,068,307 | Establish efficient, secure land access for households and investors | $12,021,164 | Time to get land usage rights (DUAT), urban. Time to get land usage rights (DUAT), rural.
|  |  |  | Number of buildings rehabilitated or built.
|  |  |  | Total value of procured equipment and materials.
|  |  |  | Number of people trained.
|  |  |  | Rural hectares mapped in Site Specific Activity.
|  |  |  | Urban parcels mapped.
|  |  |  | Rural hectares formalized through Site Specific Activity.
|  |  |  | Urban parcels formalized.
|  |  |  | Number of communities delimited and formalized.
|  |  |  | Number of urban households having land formalized.
Farmer Income Support Project | $18,400,117 | Improve coconut productivity and diversification into cash crop | $7,524,289 | Number of diseased or dead palm trees cleared. Survival rate of Coconut seedlings.
|  |  |  | Hectares under production.
|  |  |  | Number of farmers trained in pest and disease control.
|  |  |  | Number of farmers trained in crop diversification technologies.
|  |  |  | Income from coconuts and coconut products (estates).
|  |  |  | Income from coconuts and coconuts products (households).
Program Administration ² and Control, Monitoring and Evaluation | $65,782,756 |  | $18,600,247 |
Pending Subsequent Report ³ |  |  | $237,220 |

Projects | Obligated | Objective | Cumulative expenditures | Measures
Country: Lesotho Year: 2011 Quarter 3 Total Obligation: $362,551,000
Entity to which the assistance is provided: MCA Lesotho Total Quarterly Expenditures ¹: $24,844,746
Water Project | $164,027,999 | Improve the water supply for industrial and domestic needs, and enhance rural livelihoods through improved watershed management | $31,617,648 | School days lost due to water borne diseases. Diarrhea notification at health centers. Households with access to improved water supply.
|  |  |  | Households with access to improved Latrines.
|  |  |  | Knowledge of good hygiene practices.
|  |  |  | Households with reliable water services.
|  |  |  | Enterprises with reliable water services.
|  |  |  | Households with reliable water services.
|  |  |  | Volume of treated water.
|  |  |  | Area re-vegetation.
Health Project | $122,398,000 | Increase access to life-extending ART and essential health services by providing a sustainable delivery platform | $40,025,988 | People with HIV still alive 12 months after initiation of treatment. TB notification (per 100,000 pop.).
|  |  |  | People living with HIV/AIDS (PLWA) receiving Antiretroviral treatment.
|  |  |  | Deliveries conducted in the health facilities.
|  |  |  | Immunization coverage rate.
Private Sector Development Project | $36,470,318 | Stimulate investment by improving access to credit, reducing transaction costs and increasing the participation of women in the economy | $9,811,161 | Time required to enforce a contract. Value of commercial cases. Cases referred to Alternative Dispute Resolution (ADR) that are successfully completed.
|  |  |  | Portfolio of loans.
|  |  |  | Loan application processing time.
|  |  |  | Performing loans.
|  |  |  | Electronic payments—salaries.
|  |  |  | Electronic payments—pensions.
|  |  |  | Debit/smart cards issued.
|  |  |  | Mortgage bonds registered.
|  |  |  | Value of registered mortgage bonds.
|  |  |  | Clearing time—Country.
|  |  |  | Clearing time—Maseru.
|  |  |  | Land transactions recorded.
|  |  |  | Land parcels regularized and registered.
|  |  |  | People trained on gender equality and economic rights.
|  |  |  | Eligible population with ID cards.
|  |  |  | Monetary cost to process a lease application.
Program Administration ² and Control, Monitoring and Evaluation | $39,654,682 |  | $20,812,467 |
Pending Subsequent Report ³ |  |  | $1,825,781 |

Projects | Obligated | Objective | Cumulative expenditures | Measures
Country: Morocco Year: 2011 Quarter 3 Total Obligation: $697,500,000
Entity to which the assistance is provided: MCA Morocco Total Quarterly Expenditures ¹: $53,438,747
Fruit Tree Productivity Project | $301,396,445 | Reduce volatility of agricultural production and increase volume of fruit agricultural production | $103,948,810 | Number of farmers trained. Number of agribusinesses assisted. Number of hectares under production.
|  |  |  | Value of agricultural production.
Small Scale Fisheries Project | $116,168,028 | Improve quality of fish moving through domestic channels and assure the sustainable use of fishing resources | $5,355,499 | Landing sites and ports rehabilitated. Mobile fish vendors using new equipment. Fishing boats using new landing sites.
|  |  |  | Average price of fish at auction markets.
|  |  |  | Average price of fish at wholesale.
|  |  |  | Average price of fish at ports.
Artisan and Fez Medina Project | $111,373,858 | Increase value added to tourism and artisan sectors | $12,219,985 | Average revenue of Small and Micro Enterprise (SME) pottery workshops.
|  |  |  | Construction and rehabilitation of Fez Medina Sites.
|  |  |  | Tourist receipts in Fez.
|  |  |  | Training of potters.
Enterprise Support Project | $33,850,000 | Improved survival rate of new SMEs and INDH-funded income generating activities; increased revenue for new SMEs and INDH-funded income generating activities | $10,350,505 | Value added per enterprise. Survival rate after two years.
Financial Services Project | $46,200,000 | TBD | $19,643,716 | Portfolio at risk at 30 days Portfolio rate of return Number of clients of Microcredit Associations (AMCs) reached through mobile branches.
Program Administration ² and Control, Monitoring and Evaluation | $88,511,669 |  | $33,868,620 |
Pending Subsequent Report ³ |  |  | $2,951,353 |

Projects | Obligated | Objective | Cumulative expenditures | Measures
Country: Tanzania Year: 2011 Quarter 3 Total Obligation: $698,136,011
Entity to which the assistance is provided: MCA Tanzania Total Quarterly Expenditures ¹: $41,385,741
Energy Sector Project | $206,042,428 | Increase value added to businesses | $57,730,373 | Current power customers: Morogoro D1, Morogoro T1, Morogoro T2 & T3, Tanga D1, Tanga T1, Tanga T2 &T3, Mbeya D1, Mbeya T1, Mbeya T2 &T3, Iringa D1, Iringa T1, Iringa T2 & T3, Dodoma D1, Dodoma T1, Dodoma T2 & T3, Mwanza D1, Mwanza T1 and Mwanza T2 & T3.
|  |  |  | Transmission and distribution sub-station capacity: Morogoro, Tanga, Mbeya, Iringa, Dodoma and Mwanza.
|  |  |  | Collection efficiency (Morogoro).
|  |  |  | Collection efficiency (Tanga).
|  |  |  | Collection efficiency (Mbeya).
|  |  |  | Collection efficiency (Iringa).
|  |  |  | Collection efficiency (Dodoma).
|  |  |  | Collection efficiency (Mwanza).
|  |  |  | Technical and nontechnical losses (Morogoro).
|  |  |  | Technical and nontechnical losses (Tanga).
|  |  |  | Technical and nontechnical losses (Mbeya).
|  |  |  | Technical and nontechnical losses (Iringa).
|  |  |  | Technical and nontechnical losses (Dodoma).
|  |  |  | Technical and nontechnical losses (Mwanza).
Transport Sector Project | $368,847,429 | Increase cash crop revenue and aggregate visitor spending | $121,978,880 | International roughness index: Tunduma Sumbawanga.
|  |  |  | International roughness index: Tanga Horohoro.
|  |  |  | International roughness index: Namtumbo Songea.
|  |  |  | International roughness index: Peramiho Mbinga.
|  |  |  | Annual average daily traffic: Tunduma Sumbawanga.
|  |  |  | Annual average daily traffic: Tanga Horohoro.
|  |  |  | Annual average daily traffic: Namtumbo Songea.
|  |  |  | Annual average daily traffic: Peramiho Mbinga.
|  |  |  | Kilometers upgraded/completed: Tunduma Sumbawanga.
|  |  |  | Kilometers upgraded/completed: Tanga Horohoro.
|  |  |  | Kilometers upgraded/completed: Namtumbo Songea.
|  |  |  | Kilometers upgraded/completed: Peramiho Mbinga.
|  |  |  | Percent disbursed on construction works: Tunduma Sumbawanga.
|  |  |  | Percent disbursed on construction works: Tanga Horohoro.
|  |  |  | Percent disbursed on construction works: Namtumbo Songea.
|  |  |  | Percent disbursed on construction works: Peramiho Mbinga.
|  |  |  | Percent disbursed for feasibility and/or design studies: Tunduma Sumbawanga.
|  |  |  | Percent disbursed for feasibility and/or design studies: Tanga Horohoro.
|  |  |  | Percent disbursed for feasibility and/or design studies: Namtumbo Songea.
|  |  |  | Percent disbursed for feasibility and/or design studies: Peramiho Mbinga.
|  |  |  | International roughness index: Pemba.
|  |  |  | Average annual daily traffic: Pemba.
|  |  |  | Kilometers upgraded/completed: Pemba.
|  |  |  | Percent disbursed on construction works: Pemba.
|  |  |  | Signed contracts for construction works (Zanzibar Rural Roads).
|  |  |  | Percent disbursed on signed contracts for feasibility and/or design studies: Pemba.
|  |  |  | Passenger arrivals: Mafia Island.
|  |  |  | Percentage of upgrade complete: Mafia Island.
|  |  |  | Percent disbursed on construction works: Mafia Island.
Water Sector Project | $65,692,144 | Increase investment in human and physical capital and to reduce the prevalence of water-related disease | $17,615,173 | Number of domestic customers (Dar es Salaam). Number of domestic customers (Morogoro).
|  |  |  | Number of non-domestic (commercial and institutional) customers (Dar es Salaam).
|  |  |  | Number of non-domestic (commercial and institutional) customers (Morogoro).
|  |  |  | Volume of water produced (Lower Ruvu).
|  |  |  | Volume of water produced (Morogoro).
|  |  |  | Percent disbursed on feasibility design update contract Lower Ruvu Plant Expansion.
Program Administration ² and Control, Monitoring and Evaluation | $57,554,000 |  | $22,416,473 |
Pending Subsequent Report ³ |  |  | $99,857 |

Projects | Obligated | Objective | Cumulative expenditures | Measures
Country: Burkina Faso Year: 2011 Quarter 3 Total Obligation: $480,943,569
Entity to which the assistance is provided: MCA Burkina Faso Total Quarterly Expenditures ¹: $1,123,783
Roads Project | $194,130,681 | Enhance access to markets through investments in the road network | $3,899,270 | Annual average daily traffic: Dedougou-Nouna. Annual average daily traffic: Nouna-Bomborukuy.
|  |  |  | Annual average daily traffic: Bomborukuy-Mali border.
|  |  |  | Kilometers of road under works contract.
|  |  |  | Kilometers of road under design/feasibility contract.
|  |  |  | Access time to the closest market via paved roads in the Sourou and Comoe (minutes).
|  |  |  | Kilometers of road under works contract.
|  |  |  | Kilometers of road under design/feasibility contract.
|  |  |  | Personnel trained in procurement, contract management and financial systems.
|  |  |  | Periodic road maintenance coverage rate (for all funds) (percentage).
Rural Land Governance Project | $59,934,615 | Increase investment in land and rural productivity through improved land tenure security and land management | $10,413,294 | Trend in incidence of conflict over land rights reported in the 17 pilot communes (Annual percentage rate of change in the occurrence of conflicts over land rights).
|  |  |  | Number of legal and regulatory reforms adopted.
|  |  |  | Number of stakeholders reached by public outreach efforts.
|  |  |  | Personnel trained.
|  |  |  | Number of Services Fonciers Ruraux (rural land service offices) installed and functioning.
|  |  |  | Rural hectares formalized.
|  |  |  | Number of parcels registered in Ganzourou project area.
Agriculture Development Project | $141,910,059 | Expand the productive use of land in order to increase the volume and value of agricultural production in project zones | $7,337,544 | New irrigated perimeters developed in Di (Hectares). Technical water management core teams (noyaux techniques) installed and operational in the two basins (Sourou and Comoe).
|  |  |  | Number of farmers trained.
|  |  |  | Number of agro-sylvo-pastoral groups which receive technical assistance.
|  |  |  | Number of loans provided by the rural finance facility.
|  |  |  | Volume of loans intended for agro-sylvo-pastoral borrowers (million CFA).
Bright II Schools Project | $28,829,669 | Increase primary school completion rates | $27,785,257 | Number of girls/boys graduating from BRIGHT II primary schools.
|  |  |  | Percent of girls regularly attending (90% attendance) BRIGHT schools.
|  |  |  | Number of girls enrolled in the MCC/USAID-supported BRIGHT schools.
|  |  |  | Number of additional classrooms constructed.
|  |  |  | Number of teachers trained through 10 provincial workshops.
Program Administration ² and Control, Monitoring and Evaluation | $56,138,545 |  | $18,025,810 |
Pending Subsequent Report ³ |  |  | $0 |

Projects | Obligated | Objective | Cumulative expenditures | Measures
Country: Namibia Year: 2011 Quarter 3 Total Obligation: $304,477,815
Entity to which the assistance is provided: MCA Namibia Total Quarterly Expenditures ¹: $2,528,498
Education Project | $144,976,556 | Improve the quality of the workforce in Namibia by enhancing the equity and effectiveness of basic | $14,487,534 | Percentage of students who are new entrants in grade 5 for 47 schools. Percent of contracted construction works disbursed for 47 schools
|  |  |  | Percent disbursed against design/supervisory contracts for 47 schools.
|  |  |  | Percentage of schools with a learner-textbook ration of 1 to 1 in science, math, and English.
|  |  |  | Number of textbooks delivered.
|  |  |  | Number of teachers and managers trained in textbook management, utilization, and storage.
|  |  |  | Percent disbursed against works contracts for Regional Study Resource Centers Activity (RSRCS).
|  |  |  | Percent disbursed against design/supervisory contracts for RSRCs.
|  |  |  | Number of vocational trainees enrolled through the MCA-N grant facility.
|  |  |  | Value of vocational training grants awarded through the MCA-N grant facility.
|  |  |  | Percent disbursed against construction, rehabilitation, and equipment contracts for Community Skills and Development Centres (COSDECS).
|  |  |  | Percent disbursed against design/supervisory contracts for COSDECS.
Tourism Project | $66,959,292 | Grow the Namibian tourism industry with a focus on increasing income to households in communal | $7,502,274 | Percent of condition precedents and performance targets met for Etosha National Park (ENP) activity. Number of game translocated with MCA-N support.
|  |  |  | Number of unique visits on Namibia Tourism Board (NTB) website.
|  |  |  | Number of North American tourism businesses (travel agencies and tour operators) that offer Namibian tours or tour packages.
|  |  |  | Value of grants issued by the conservancy grant fund (Namibian dollars).
|  |  |  | Amount of private sector investment secured by MCA-N assisted conservancies (Namibian dollars).
|  |  |  | Number of annual general meetings with financial reports submitted and benefit distribution plans discussed.
Agriculture Project | $47,550,008 | Enhance the health and marketing efficiency of livestock in the NCAs of Namibia and to increase income | $9,660,832 | Number of participating households registered in the Community-based Rangeland and Livestock Management (CBRLM) sub-activity.
|  |  |  | Number of grazing area management implementation agreements established under CBRLM sub-activity.
|  |  |  | Number of community land board members and traditional authority members trained.
|  |  |  | Number of cattle tagged with radio frequency identification (RFID) tags.
|  |  |  | Percent disbursed against works contracts for State Veterinary Offices.
|  |  |  | Percent disbursed against design/supervisory contracts for State Veterinary Offices.
|  |  |  | Value of grant agreements signed under Livestock Market Efficiency Fund.
|  |  |  | Number of Indigenous Natural Product (INP) producers selected and mobilized.
|  |  |  | Value of grant agreements signed under INP Innovation Fund.
Program Administration ² and Control, Monitoring and Evaluation | $44,991,959 |  | $10,511,378 |
Pending Subsequent Report ³ |  |  | $3,189,460 |

Projects | Obligated | Objective | Cumulative expenditures | Measures
Country: Moldova Year: 2011 Quarter 3 Total Obligation: $262,000,000
Entity to which the assistance is provided: MCA Moldova Total Quarterly Expenditures ¹: $5,987,216
Road Rehabilitation Project | $132,840,000 | Enhance transportation conditions | $318,427 | Reduced cost for road users. Average annual daily traffic.
|  |  |  | Road maintenance expenditure.
|  |  |  | Kilometers of roads completed.
|  |  |  | Percent of contracted roads works disbursed.
|  |  |  | Kilometers of roads under works contracts.
|  |  |  | Resettlement Action Plan (RAP) implemented.
|  |  |  | Final design.
|  |  |  | Kilometers of roads under design.
Transition to High Value Agriculture Project | $101,773,402 | Increase incomes in the agricultural sector; Create models for transition to HVA in CIS areas and an enabling environment (legal, financial and market) for replication | $5,484,912 | Hectares under improved or new irrigation. Centralized irrigation systems rehabilitated. Percent of contracted irrigation feasibility and/or design studies disbursed.
|  |  |  | Value of irrigation feasibility and/or detailed design contracts signed.
|  |  |  | Water user associations (WUA) achieving financial sustainability.
|  |  |  | WUA established under new law.
|  |  |  | Revised water management policy framework—with long-term water rights defined—established.
|  |  |  | Contracts of association signed.
|  |  |  | Irrigation Sector Reform (ISRA) Contractor mobilized.
|  |  |  | Additionally factor of Access to Agricultural Finance (AAF) investments.
|  |  |  | Value of agricultural and rural loans.
|  |  |  | Number of all loans.
|  |  |  | Number of all loans (female).
|  |  |  | High value agriculture (HVA) Post-Harvest Credit Facility launched.
|  |  |  | HVA Post-Harvest Credit Facility Policies and Procedures Manual (PPM) Finalized.
|  |  |  | Number of farmers that have applied improved techniques (Growing High Value Agriculture Sales [GSH]).
|  |  |  | Number of farmers that have applied improved techniques (GHS) (female).
|  |  |  | Number of farmers trained.
|  |  |  | Number of farmers trained (female).
|  |  |  | Number of enterprises assisted.
|  |  |  | Number of enterprises assisted (female).
|  |  |  | GHS activity launched.
Program Administration ² and Monitoring and Evaluation | $27,386,598 |  | $1,473,847 |
Pending Subsequent Report ³ |  |  | $1,395 |

Projects | Obligated | Objective | Cumulative expenditures | Measures
Country: Philippines Year: 2011 Quarter 3 Total Obligation: $433,910,000
Entity to which the assistance is provided: MCA Philippines Total Quarterly Expenditures ¹: $4,679,902
Revenue Administration Reform Project | $54,300,000 | To be determined (tbd) |  | tbd.
Community Development Grant | $120,000,000 | tbd | $19,836 | tbd.
Roads Project | $214,493,000 | tbd | $4,328,660 | tbd.
Program Administration ² and Monitoring and Evaluation | $45,117,000 |  |  | tbd.
Pending Subsequent Report ³ |  |  | $2,885,141 |

Projects | Obligated | Objective | Cumulative expenditures | Measures
Country: Senegal Year: 2011 Quarter 3 Total Obligation: $540,000,000
Entity to which the assistance is provided: MCA Senegal Total Quarterly Expenditures ¹: $2,083,818
Road Rehabilitation Project | $324,712,499 | Expand Access to Markets and Services | $1,112,254 | Tons of irrigated rice production. Kilometers of roads rehabilitated on the RN#2.
|  |  |  | Annual average daily traffic Richard-Toll—Ndioum.
|  |  |  | Percentage change in travel time on the RN # 2.
|  |  |  | International Roughness Index on the RN#2 (Lower number = smoother road).
|  |  |  | Kilometers (km) of roads covered by the contract for the studies, the supervision and management of the RN#2.
|  |  |  | Kilometers of roads rehabilitated on the RN#6.
|  |  |  | Annual average daily traffic Ziguinchor—Tanaff.
|  |  |  | Annual average daily traffic Tanaff—Kolda.
|  |  |  | Annual average daily traffic Kolda—Kounkané.
|  |  |  | Percentage change in travel time on the RN # 6.
|  |  |  | International Roughness Index on the RN#6 (Lower number = smoother road).
|  |  |  | Kilometers (km) of roads covered by the contract for the studies, the supervision and management of the RN#6.
Irrigation and Water Resources Management Project | $170,008,860 | Improve productivity of the agricultural sector | $23,857 | Tons of irrigated rice production. Potentially irrigable lands area (Delta and Ngallenka).
|  |  |  | Hectares under production.
|  |  |  | Total value of feasibility, design and environmental study contracts signed for the Delta and the Ngallenka (including RAPs).
|  |  |  | Cropping intensity (hectares under production per year/cultivable hectares).
|  |  |  | Number of hectares mapped to clarify boundaries and land use types.
|  |  |  | Percent of new conflicts resolved.
|  |  |  | Number of people trained on land security tools.
Program Administration ² and Monitoring and Evaluation | $45,278,641 |  | $3,753,535 |
Pending Subsequent Report ³ |  |  | $81,202 |
¹ Expenditures are the sum of cash outlays and quarterly accruals for work completed but not yet paid or invoiced.
² Program administration funds are used to pay items such as salaries, rent, and the cost of office equipment.
³ These amounts represent disbursements made that will be allocated to individual projects in the subsequent quarter(s) and reported as such in subsequent quarterly report(s).

619(b) Transfer or Allocation of Funds: U.S. Agency to which Funds were Transferred or Allocated | 619(b) Transfer or Allocation of Funds: Amount | 619(b) Transfer or Allocation of Funds: Description of program or project
USAID | $0 | Threshold Program

Dated: September 26, 2011.
T. Charles Cooper,
Vice President, Congressional and Public Affairs, Millennium Challenge Corporation.

[FR Doc. 2011-25119 Filed 9-28-11; 8:45 am]

BILLING CODE 9211-03-P